DEPARTMENT OF ENERGY

Federal Energy Regulatory Commission

[Project No. 1892-030; Project No. 1855-050; Project No. 1904-078]

Great River Hydro, LLC; Notice of Settlement Agreement and Soliciting Comments

Take notice that the following settlement agreement has been filed with the Commission and is available for public inspection.

a. Type of Application: Settlement Agreement.

b. Project Nos.: 1892-030, 1855-050, and 1904-078.

c. Date filed: August 3, 2022.

d. Applicant: Great River Hydro, LLC (Great River).

e. Name of Projects: Wilder Hydroelectric Project, Bellows Falls Hydroelectric Project, and Vernon Hydroelectric Project (collectively, projects).

f. Location: The existing projects are located on the Connecticut River in the counties of Orange, Windham, and Windsor, Vermont and Sullivan, Cheshire, and Grafton, New Hampshire. The projects do not affect federal land.

g. Filed Pursuant to: Rule 602 of the Commission's Rules of Practice and Procedure, 18 CFR 385.602.

h. Applicant Contact: John Ragonese, FERC License Manager, Great River Hydro, LLC, 40 Pleasant Street, Suite 202, Portsmouth, NH 03801; (603) 498-2851 or jragonese@greatriverhydro.com.

i. FERC Contact: Steve Kartalia, (202) 502-6131 or stephen.kartalia@ferc.gov.

j. Deadline for filing comments: September 2, 2022. Reply comments due September 17, 2022.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket numbers P-1892-030, P-1855-050, and P-1904-078.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. Great River filed the Settlement Agreement on behalf of itself, the U.S. Fish and Wildlife Service, the New Hampshire Fish and Game Department, and the Vermont Fish and Wildlife Department. The purpose of the Settlement Agreement is to resolve, among the signatories, issues related to fish passage associated with the issuance of any new licenses and fishway prescriptions under Section 18 of the FPA for the projects. Specifically, the Settlement Agreement includes proposed upstream and downstream fish passage facilities, fish passage studies, and fish passage operational measures. Great River requests that the Commission consider the Settlement Agreement in its environmental analyses of the proposed relicense applications, and incorporate the proposed measures into any new licenses issued.

l. A copy of the settlement agreement may be viewed on the Commission's website at http://www.ferc.gov using the “eLibrary” link. Enter the docket number, excluding the last three digits, in the docket number field to access the document (i.e., P-1892, P-1855, and P-1904). At this time, the Commission has suspended access to the Commission's Public Reference Room, due to the proclamation declaring a National Emergency concerning the Novel Coronavirus Disease (COVID-19), issued by the President on March 13, 2020. For assistance, contact FERC Online Support.

You may also register online at http://www.ferc.gov/docs-filing/esubscription.asp to be notified via email of new filings and issuances related to this or other pending projects. For assistance, contact FERC Online Support.

Dated: August 4, 2022.
Kimberly D. Bose,
Secretary.

[FR Doc. 2022-17152 Filed 8-9-22; 8:45 am]

BILLING CODE 6717-01-P